DEPARTMENT OF COMMERCE

National Oceanic and Atmospheric Administration

[I.D. 092805G]

Western Pacific Fishery Management Council; Public Meetings

AGENCY: National Marine Fisheries Service (NMFS), National Oceanic and Atmospheric Administration (NOAA), Commerce.

ACTION: Notice of public meetings and hearings.

SUMMARY: The Western Pacific Fishery Management Council(s (Council) will convene a joint meeting of all its Plan Teams (Pelagics, Bottomfish, Crustaceans, Precious Corals, Coral Reef Ecosystem) on Thursday October 13 and Friday October 14, 2005, to review draft Fishery Ecosystem Plans (FEPs). Further, the Council will also hold several public hearings to seek input on the proposal to develop draft FEPs for the Mariana Islands, Hawaiian Islands, American Samoa, the US Pacific remote islands and the western Pacific pelagic ecosystem. See SUPPLEMENTARY INFORMATION for specific times, dates, and agenda items.

ADDRESSES: The Joint Plan Team and SSC meetings will be held at the Council Office Conference Room, 1164 Bishop St., Suite 1400, Honolulu, HI; telephone: (808) 522-8220. The public hearings on the draft FEPs will be held in October and November 2005. See SUPPLEMENTARY INFORMATION for specific times, dates and locations of these public meetings and hearings.

FOR FURTHER INFORMATION CONTACT: Kitty M. Simonds, Executive Director; telephone: 808-522-8220.

SUPPLEMENTARY INFORMATION:

Dates and Times and Locations

The Joint Plan Team meeting will be held between 8:30 a.m. and 5 p.m. on October 13-14 at the Council Office Conference Room, 1164 Bishop St., Suite 1400, Honolulu, HI; telephone: (808) 522-8220.

The SSC meetings will be held between 8:30 a.m. and 5 p.m. on October 18-20 at the Council Office Conference Room, 1164 Bishop St., Suite 1400, Honolulu, HI; telephone: 808-522-8220.

Joint Plan Team Meetings

8:30 am Thursday, October 13, 2005

1. Introduction

2. Overview of Fishery Ecosystem Plan Development

3. Description of Fishery Ecosystem Plans

A. FEP Objectives

B. FEP Boundary

C. FEP Management Unit Species

D. Council Structure and Decision Making Process

4. Public Comment

5. Discussion and Recommendations

8:30 am Friday, October 14, 2005

Agenda to continue on Friday, October 14, 2005 if necessary

SSC Meeting

8:30 a.m. Tuesday, October 18, 2005

1. Introductions -- Paul Callaghan

2. Approval of Draft Agenda and Assignment of Rapporteurs

3. Approval of the Minutes of the 89th Meeting

4. Western Pacific Process for Stock Assessment Review (ACTION ITEM)

5. Insular Fisheries

A. Bottomfish Management

1. Main Hawaiian Islands (MHI) Bottomfish Overfishing Options (ACTION ITEM)

2. Report on HI Bottomfish Habitat and Impact

B. Black Coral Management (ACTION ITEM)

C. Crustaceans Management

1. Northwestern Hawaiian Islands (NWHI) Lobster Model Review

2. MHI Lobster Fishery Assessment

3. Plan Team Recommendations

D.Public Comment

E.Discussion and Recommendations

6. Ecosystem and Habitat

A. Western Pacific Fishery Ecosystem Plans (ACTION ITEM)

1. FEP Objectives

2. FEP Boundaries

3. FEP Management Unit Species

B. Marianas FEP Pilot Project (ACTION ITEM)

1. Ecosystem Indicators

2. Inshore Community Initiatives

3. Offshore Bank Management

C. Draft Coral Reef Ecosystem Annual Report

D. Reconstruction of Coral Reef and Bottomfish Fisheries Catches

E. National Academy of Science Ecosystem Panel

F. Plan Teams Recommendations

G. Public Comment

H. Discussion and Recommendations

8:30 a.m. Wednesday, October 19, 2005

7. Pelagics Fisheries

A. International Fisheries Management

1. Inter-American Tropical Tuna Commission

2. Western & central Pacific Fishery Commission

3. NMFS PIRO International Division Activities

4. Pacific Yellowfin Stock Condition

5. North Pacific Albacore Stock Condition

B. HI Swordfish Fishery Certificates (ACTION ITEM)

C. Fish aggregating device (FAD) Management -- Paul Dalzell

D. Definition of shortlines vs. Longlines

E. MHI Longline Buffer Zones

F. American Samoa FAD Closures

G. Update on HI Longline Biological Opinion

H. American Samoa & Hawaii Longline Fisheries Quarterly Reports

I. American Samoa Pelagic Research Projects

J. Plan Team Recommendations

K. Public Comment

L. Discussion and Recommendations

8. Protected Species

A. Third International Fishers Forum

B. Malaysia Longline Bycatch Workshop

C. Turtle Conservation Program Update

D. Economics of Sea Turtle Conservation

E. Green Sea Turtle Harvest Potential

F. Cetacean Research Workshop

G. Sea Turtle Research Project

H. Public Comment

I. Discussion and Recommendations

8:30 a.m. Thursday, October 19, 2005

9. Other Business

A. New SSC Members

B. 91st SSC meeting

10. Summary of SSC Recommendations to the Council -- Paul Callaghan

Draft Fishery Ecosystem Plan Public Hearings

At its 123rd meeting (June 2004), the Council initiated a process to develop fishery ecosystem plans (FEPs), thereby managing fisheries within an ecosystem context. Between October and December 2004, the Council conducted scoping meetings throughout the region to solicit input on establishing a preliminary range of alternatives to develop a Programmatic Environmental Impact Statement which will serve as a broad-range planning tool for the Council's development and implementation of FEP. Based on comments received during scoping, as well as other planning activities, the Council is seeking public input on the following issues related to the development of draft FEPs:

1. FEP Objectives;

2. FEP Boundaries;

3. FEP Management Unit Species;

4. Council process relating to advisory body structure; and

5. Regional Planning Coordination.

The public hearings on the draft FEPs will be held on the following dates, times and locations:

1. Pago Pago, American Samoa - Saturday, October 22, 2005, from 9 a.m. to 12 noon at the Utulei Convention Center, Pago Pago, American Samoa 96799.2. Saipan, CNMI - Tuesday October 25, 2005, from 6 to 9 p.m. at the American Memorial Park Visitor's Center Auditorium, Garapan, CNMI 96950.3. Tinian, CNMI - Wednesday, October 26, 2005, from 6 to 9 p.m. at the Mayor's Office Conference Room, San Jose, CNMI 96950.4. Rota, CNMI - Thursday, October 27, 2005, from 6 to 9 p.m. at the Northern Marianas College, Room A2, Rota Tatachog Campus, CNMI 96950.5. Oahu, HI - Tuesday, November 1, 2005, from 6 to 9 p.m. at the Ala Moana Hotel, 410 Atkinson Dr., Honolulu, HI 96815.6. Tumon Bay, Guam - Friday November 11, 2005, 10 a.m., at the Hilton Guam Resort, 96913.

Special Accommodations

These meetings are physically accessible to people with disabilities. Requests for sign language interpretation or other auxiliary aids should be directed to Kitty M. Simonds, 808-522-8220 (voice) or (808)522-8226 (fax), at least 5 days prior to the meeting date.

Dated: September 29, 2005.
Emily Menashes,
Acting Director, Office of Sustainable Fisheries, National Marine Fisheries Service.

[FR Doc. E5-5414 Filed 10-3-05; 8:45 am]

BILLING CODE 3510-22-S